COMMODITY FUTURES TRADING COMMISSION

17 CFR Parts 22 and 190

RIN Number 3038-AC99

Protection of Cleared Swaps Customer Contracts and Collateral; Conforming Amendments to the Commodity Broker Bankruptcy Provisions; Correction

AGENCY: Commodity Futures Trading Commission.

ACTION: Notice of proposed rulemaking; Correction.

SUMMARY: This document corrects the formatting of text and charts published in the Federal Register of June 09, 2011 (76 FR 33818), regarding Protection of Cleared Swaps Customer Contracts and Collateral; Conforming Amendments to the Commodity Broker Bankruptcy Provisions.

FOR FURTHER INFORMATION CONTACT: Robert Wasserman, 202-418-5092 or M. Laura Astrada, 202-418-7622.

Correction

In proposed rule document 2011-10737, in the issue of Thursday, June 09, 2011, on page 33864, in the last column, the text which begins “1. Sufficient Funds to Meet Non-XM and XM Customer Claims:” through to the end of the chart on page 33877 should be replaced with the following:

BILLING CODE-P

Issued in Washington, DC, on June 10, 2011 by the Commission.
David A. Stawick,
Secretary of the Commission.

[FR Doc. 2011-14907 Filed 6-15-11; 8:45 am]

BILLING CODE-C